DEPARTMENT OF HEALTH AND HUMAN SERVICES

Agency for Toxic Substances and Disease Registry

[ATSDR-222]

Public Health Assessments Completed April—June 2006

AGENCY: Agency for Toxic Substances and Disease Registry (ATSDR), Department of Health and Human Services (HHS).

ACTION: Notice.

SUMMARY: This notice announces those sites for which ATSDR has completed public health assessments during the period from April 2006 through June 2006. This list includes sites that are on or proposed for inclusion on the National Priorities List (NPL) and includes sites for which assessments were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on May 17, 2006 [71 FR 28702]. This announcement is the responsibility of ATSDR under the regulation “Public Health Assessments and Health Effects Studies of Hazardous Substances Releases and Facilities” [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the ATSDR Records Center, 1825 Century Boulevard, Atlanta, Georgia (not a mailing address), between 8 a.m. and 4:30 p.m., Monday through Friday except legal holidays. Public health assessments are often available for public review at local repositories such as libraries in corresponding areas. Many public health assessments are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between April 2006, and June 2006, public health assessments were issued for the sites listed below:

NPL and Proposed NPL Sites

Alaska

Eielson Air Force Base (EAFB)—(PB2006-112790).

Colorado

Captain Jack Mill—(PB2006-109060).

Oklahoma

Hudson Refinery NPL Site—(PB2006-112858).

Pennsylvania

Valmont TCE Site: Formerly Valmont Industrial Park Site (a/k/a Valmont Industrial Park)—(PB2006-109770).

Tennessee

Smalley-Piper Collierville—(PB2006-110718).

Virginia

Naval Weapons Station York Town (NWSY)—(PB2006-111467).

Non-NPL Petitioned Sites

Georgia

Colonial Pipeline Danielsville Booster Station—(PB2006-112820).

Tennessee, Loudon County Hazardous Air Pollutants—(PB2006-110717).

Dated: July 26, 2006.
Kenneth Rose,
Acting Director Office of Policy, Planning, and Evaluation, National Center for Environmental Health/, Agency for Toxic Substances and Disease, Registry.

[FR Doc. E6-12415 Filed 8-1-06; 8:45 am]

BILLING CODE 4163-70-P